DEPARTMENT OF HOUSING AND URBAN DEVELOPMENT

[Docket No. FR-4253-N-01]

Eligibility Restrictions on Noncitizens: Inapplicability of Welfare Reform Act Restrictions on Federal Means-Tested Public Benefits

AGENCY: Office of the Secretary, HUD.

ACTION: Notice.

SUMMARY: Section 403 of the Personal Responsibility and Work Opportunity Reconciliation Act of 1996 (referred to as the “Welfare Reform Act”) places restrictions on providing “Federal means-tested public benefits” to certain legal aliens. The purpose of this notice is to advise the public that no HUD programs fall under the category of “Federal means-tested public benefits” and therefore no HUD programs are subject to these restrictions.

DATES: Effective Date: This notice is effective upon publication.

FOR FURTHER INFORMATION CONTACT: The following persons should be contacted:

For questions about programs administered by HUD's Office of Public and Indian Housing: Pat Arnaudo, Office of Public and Indian Housing, U.S. Department of Housing and Urban Development, 451 Seventh Street, SW, Room 4226, Washington, DC 20410; telephone (202) 708-0744;

For questions about programs administered by HUD's Office of Community Planning and Development: Salvatore Sclafani, Office of Community Planning and Development, U.S. Department of Housing and Urban Development, 451 Seventh Street, SW, Room 7154, Washington, DC 20410; telephone (202) 708-1283; and

For questions about programs administered by HUD's Office of Housing: Willie Spearmon, Office of Housing, U.S. Department of Housing and Urban Development, 451 Seventh Street, SW, Room 6134, Washington, DC 20410; telephone (202) 708-3000.

Hearing and speech-impaired persons may access the above telephone numbers via TTY by calling the Federal Information Relay Service at 1-800-877-8339. (With the exception of the “800” number, these are not toll-free numbers.)

SUPPLEMENTARY INFORMATION: On August 22, 1996, the Personal Responsibility and Work Opportunity Reconciliation Act of 1996 (Pub. L. 104-193, 110 Stat. 2105) (referred to as the “Welfare Reform Act”) was enacted into law. Section 403 of the Welfare Reform Act imposes restrictions on providing “Federal means-tested public benefits” to certain legal aliens. Specifically, unless statutorily excepted, an alien who is a “qualified alien,” as that term is defined in section 431 of the Welfare Reform Act, and who enters the United States on or after August 22, 1996 is ineligible for “Federal means-tested public benefits” for the first five years after the qualified alien's entry. Following a thorough review of the legislative history, HUD has concluded that “Federal means-tested public benefits” refers not to discretionary spending programs but only to mandatory spending programs in which eligibility for benefits, or the amount of such benefits, or both, are determined on the basis of income, resources, or financial need of the individual, household, or family unit.

This conclusion is consistent with that reached by other agencies that administer Federal public benefit programs. (Please see the notices published by the Department of Health and Human Services and the Social Security Administration in the Federal Register on August 26, 1997, at 62 FR 45256 and 62 FR 45284, respectively, and the notice published by the Department of Agriculture on July 7, 1998 at 63 FR 36653.) HUD has no mandatory spending programs. Accordingly, no HUD programs fall within the category of “Federal means-tested public benefits.”

Another section of the Welfare Reform Act that might appear to apply to HUD programs is section 421, which provides that income and resources of an alien sponsored under section 213A of the Immigration and Nationality Act applying for “Federal means-tested public benefits” are deemed to include the income and resources of the individual's sponsor. That section is only applicable to programs covered by section 403 of the Act. Hence, its provisions are inapplicable to HUD programs.

Dated: June 23, 2000.
Andrew Cuomo,
Secretary.

[FR Doc. 00-20803 Filed 8-15-00; 8:45 am]

BILLING CODE 4210-32-P